DEPARTMENT OF ENERGY

Federal Energy Regulatory Commission

[Project No. 2413-124]

Notice of Application Tendered for Filing With the Commission and Establishing Procedural Schedule for Licensing and Deadline for Submission of Final Amendments; Georgia Power Company

Take notice that the following hydroelectric application has been filed with the Commission and is available for public inspection.

a. Type of Application: New Major License.

b. Project No.: 2413-124.

c. Date Filed: May 31, 2018.

d. Applicant: Georgia Power Company (Georgia Power).

e. Name of Project: Wallace Dam Pumped Storage Project (Wallace Dam Project).

f. Location: The existing project is located on the Oconee River, in Hancock, Putnam, Green, and Morgan Counties, Georgia. The project occupies about 493.7 acres of federal land administered by the U.S. Forest Service.

g. Filed Pursuant to: Federal Power Act, 16 U.S.C. 791(a)-825(r).

h. Applicant Contact: Courtenay R. O'Mara, P.E., Wallace Dam Hydro Relicensing Manager, Southern Company Generation, BIN 10193, 241 Ralph McGill Blvd. NE, Atlanta, GA 30308-3374; (404) 506-7219; cromara@southernco.com.

i. FERC Contact: Allan Creamer at (202) 502-8365, or at allan.creamer@ferc.gov.

j. This application is not ready for environmental analysis (EA) at this time.

k. Project Description: The Wallace Dam Project consists of: (1) A 2,395-foot-long, 120-foot-high dam, consisting of (i) a 347-foot-long west earth embankment, (ii) a 300-foot-long west concrete non-overflow section, (iii) a 266-foot-long concrete spillway with five Tainter gates, each 48 feet high by 42 feet wide with a discharge capacity of 35,000 cubic feet per second (cfs), (iv) a 531.4-foot-long powerhouse intake section, protected by trashracks having a clear bar spacing of 9.5 to 10.5 inches and leading to six penstocks with a maximum diameter of 25.5 feet, (v) a 226-foot-long east concrete non-overflow section, (vi) a 725-foot-long east earth embankment, and (vii) two saddle dikes, located east of the dam, totaling about 900 feet in length; (2) an 18,188-acre reservoir (Lake Oconee) at an elevation of 435.0 feet Plant Datum (where Plant Datum equals mean sea level (NAVD88) minus 0.20 feet); (3) a powerhouse integral with the dam that contains six turbine/generator units (two conventional generating units and four reversible pump units, with a total installed capacity of 321.3 megawatts; (4) a 20,000-foot-long tailrace that flows into Lake Sinclair, which serves as the lower reservoir for the Wallace Dam Project; (5) transmission facilities that consist of (i) 13.8-kilovolt (kV) generator leads, (ii) two 13.8/230-kV step-up transformers, (iii) a 230-kV substation, and (iv) a 15.67-mile-long transmission line that extends from Wallace Dam west to a switching station near Eatonton, Georgia; and (6) appurtenant facilities.

The Wallace Dam Project is a pumped storage project, generating 390,083 megawatt-hours of electricity annually. Water for generation at Wallace Dam comes from inflow, plus storage in Lake Oconee. The project generates during peak power demand hours to meet the electrical system demand. Water that is not used for generation at the downstream Sinclair Project (FERC No. 1951), remains in Lake Sinclair for a few hours before being pumped back into Lake Oconee. Pumpback operation occurs at night, when electrical system demand is low (off-peak hours). For normal day-to-day operation, Lake Oconee fluctuates between elevations 435.0 and 433.5 feet Plant Datum, resulting in an average daily fluctuation of 1.5 feet. The Wallace Dam Project discharges directly into Lake Sinclair, with no intervening riverine or bypassed reach. Generation typically is the highest during the summer months, where Wallace Dam generates for about 7 to 8 hours during the afternoon peak demand period. During the fall and winter months, generation typically last 5 to 6 hours.

During drought periods, the Wallace Dam Project supports the minimum flow requirements of the downstream Sinclair Project. When the Sinclair Project's calculated inflow drops below its minimum flow requirement of 250 cfs, water is released from Lake Oconee to maintain Lake Sinclair at the minimum level necessary for safe pumpback operation at Wallace Dam, which is 338.2 feet Plant Datum.

l. A copy of the application is available for review at the Commission in the Public Reference Room or may be viewed on the Commission's website at http://www.ferc.gov, using the eLibrary link. Enter the docket number, excluding the last three digits in the docket number field, to access the document. For assistance, contact FERC Online Support at FERCOnlineSupport@ferc.gov, or toll free at (866) 208-3676, or for TTY at (202) 502-8659. A copy is also available for inspection and reproduction at https://www.georgiapower.com/company/energy-industry/generating-plants/wallace-dam-project.html, or the address in paragraph h.

You may also register online at http://www.ferc.gov/docs-filing/esubscription.asp to be notified via email of new filings and issuances related to this or other pending projects. For assistance, contact FERC Online Support.

m. Procedural Schedule: The application will be processed according to the following preliminary Hydro Licensing Schedule. Revisions to the schedule will be made as appropriate.

Milestone | Target date
Notice of Acceptance/Notice of Ready for Environmental Analysis | August 2018.
Filing of recommendations, preliminary terms and conditions, and fishway prescriptions | October 2018.
Commission issues EA | February 2019.
Comments on EA | March 2019.
Modified Terms and Conditions | May 2019.

n. Final amendments to the application must be filed with the Commission no later than 30 days from the issuance date of the notice of ready for environmental analysis.

Dated: June 11, 2018.
Kimberly D. Bose,
Secretary.

[FR Doc. 2018-12948 Filed 6-15-18; 8:45 am]

BILLING CODE 6717-01-P